DEPARTMENT OF COMMERCE

National Oceanic and Atmospheric Administration

Evaluations of National Estuarine Research Reserves

AGENCY: Office for Coastal Management (OCM), National Ocean Service (NOS), National Oceanic and Atmospheric Administration (NOAA), Department of Commerce (Commerce).

ACTION: Notice.

SUMMARY: The National Oceanic and Atmospheric Administration (NOAA), Office for Coastal Management will hold a public meeting to solicit comments for the performance evaluation of the Jobos Bay National Estuarine Research Reserve.

DATES: Jobos Bay National Estuarine Research Reserve Evaluation: The public meeting will be held on Wednesday, June 7, 2017, and written comments must be received on or before Wednesday, June 21, 2017.

For specific dates, times, and locations of the public meetings, see SUPPLEMENTARY INFORMATION.

ADDRESSES: You may submit comments on the reserves and coastal program NOAA intends to evaluate by any of the following methods:

Public Meeting and Oral Comments: A public meeting will be held in Aguirre, Puerto Rico for the Jobos Bay Reserve. For the specific location, see SUPPLEMENTARY INFORMATION. Written Comments: Please direct written comments to Ralph Cantral, Evaluator, Policy, Planning and Communications, Office for Coastal Management, 1305 East-West Highway N/OCM1, Silver Spring, MD 20910, or email comments Ralph.Cantral@noaa.gov.

FOR FURTHER INFORMATION CONTACT: Ralph Cantral, Evaluator, Policy, Planning and Communications, Office for Coastal Management, 1305 East West Highway N/OCM1, (240) 543-0729, or Ralph.Cantral@noaa.gov. Copies of the previous evaluation findings, Management Plan, and Site Profile may be viewed and downloaded on the Internet at http://coast.noaa.gov/czm/evaluations. A copy of the evaluation notification letter and most recent progress report may be obtained upon request by contacting the person identified under FOR FURTHER INFORMATION CONTACT.

SUPPLEMENTARY INFORMATION: Sections 312 and 315 of the Coastal Zone Management Act (CZMA) require NOAA to conduct periodic evaluations of federally approved national estuarine research reserves. The process includes a public meeting, consideration of written public comments and consultations with interested Federal, state, and local agencies and members of the public. For the evaluation of National Estuarine Research Reserves, NOAA will consider the extent to which the state has met the national objectives, adhered to its management plan approved by the Secretary of Commerce, and adhered to the terms of financial assistance under the Coastal Zone Management Act. When the evaluation is completed, NOAA's Office for Coastal Management will place a notice in the Federal Register announcing the availability of the Final Evaluation Findings.

Specific information on the periodic evaluation of reserves that are the subject of this notice are detailed below as follows:

Jobos Bay National Estuarine Research Reserve Evaluation

You may participate or submit oral comments at the public meeting scheduled as follows:

Date: June 7, 2017

Time: 5:00 p.m., local time

Location: Jobos Bay Reserve Visitors Center, Road 705, Kilometer 2.3, Main Street, Aguirre, Puerto Rico

Written comments must be received on or before June 21, 2017.

Federal Domestic Assistance Catalog 11.419

Coastal Zone Management Program Administration

Dated: April 12, 2017.
Paul M. Scholz,
Deputy Director, Office for Coastal Management, National Ocean Service, National Oceanic and Atmospheric Administration.

[FR Doc. 2017-07986 Filed 4-20-17; 8:45 am]

BILLING CODE 3510-08-P